DEPARTMENT OF HEALTH AND HUMAN SERVICES

Food and Drug Administration

[Docket No. 03F-0023]

Kerry, Inc.; Filing of Food Additive Petition

AGENCY: Food and Drug Administration, HHS.

ACTION: Notice.

SUMMARY: The Food and Drug Administration (FDA) is announcing that Kerry, Inc., has filed a petition proposing that the food additive regulations be amended to provide for the safe use of gum arabic as a thickener, emulsifier, or stabilizer in the manufacture of creamers for use in alcoholic beverages at a maximum level of use of 20 percent.

FOR FURTHER INFORMATION CONTACT: Andrew D. Laumbach, Center for Food Safety and Applied Nutrition (S-265), Food and Drug Administration, 5100 Paint Branch Pkwy., College Park, MD 20740, 202-418-3071.

SUPPLEMENTARY INFORMATION: Under the Federal Food, Drug, and Cosmetic Act (sec. 409(b)(5) (21 U.S.C. 348(b)(5))), notice is given that a food additive petition (FAP 1A4730) has been filed by Kerry, Inc., c/o Bell, Boyd, and Lloyd LLC, Three First National Plaza, 70 West Madison St., suite 3300, Chicago, IL 60602-4207. The petition proposes to amend the food additive regulations in part 172 Food Additives Permitted for Direct Addition to Food for Human Consumption (21 CFR part 172) to provide for the safe use of gum arabic as a thickener, emulsifier, or stabilizer in the manufacture of creamers for use in alcoholic beverages at a maximum level of use of 20 percent.

The food additive petition filed as FAP 1A4730 was initially filed as a generally recognized as safe (GRAS) affirmation petition GRP 3G0287 as announced in a notice that was published in the Federal Register of October 13, 1983 ( 48 FR 46626) (The GRAS affirmation petition was filed by Beatrice Foods Co., now Kerry, Inc.). Kerry, Inc., requested in a letter dated September 6, 2001, that FDA convert the GRAS affirmation petition (GRP 3G0287) to a food additive petition (FAP 1A4730).

The agency has determined under 21 CFR 25.32(r) that this action is of a type that does not individually or cumulatively have a significant effect on the human environment.

Therefore, neither an environmental assessment nor an environmental impact statement is required.

Dated: December 19, 2002.
Alan M. Rulis,
Director, Office of Food Additive Safety, Center for Food Safety and Applied Nutrition.

[FR Doc. 03-3557 Filed 2-12-03; 8:45 am]

BILLING CODE 4160-01-S